DEPARTMENT OF COMMERCE

Census Bureau

Information and Communication Technology Survey

ACTION: Proposed collection; comment request.

SUMMARY: The Department of Commerce, as part of its continuing effort to reduce paperwork and respondent burden, invites the general public and other Federal agencies to take this opportunity to comment on proposed collections, as required by the Paperwork Reduction Act of 1995, Public Law 104-13 (44 U.S.C. 3506(c)(2)(A)).

DATES: Written comments must be submitted on or before December 22, 2003.

ADDRESSES: Direct all written comments to Diana Hynek, Department Paperwork Clearance Officer, Department of Commerce, Room 6625, 14th and Constitution Avenue, NW., Washington, DC 20230 (or via the Internet at Dhynek@doc.gov).

FOR FURTHER INFORMATION CONTACT: Requests for additional information or copies of the information collection instrument(s) and instructions should be directed to Charles Funk, U.S. Census Bureau, Room 1285-3, Washington, DC 20233-6400, (301) 763-3331 or via the Internet at charles.allen.funk@census.gov.

SUPPLEMENTARY INFORMATION:

I. Abstract

The U.S. Census Bureau proposes to collect selected non-capitalized expense data through the 2003 Information and Communication Technology Survey (ICT). This survey will be sent to a sample of approximately 46,000 private non-farm employer businesses operating in the United States. The proposed survey will collect industry-level data for two categories of non-capitalized expenses (purchases, additions, alterations, upgrades and enhancements; and, operating leases and rental payments) for four types of ICT equipment and software (computers and peripheral equipment; ICT equipment, excluding computers and peripherals; electromedical and electrotherapeutic apparatus; and, computer software, including payroll associated with software development). Companies will be asked to report data for industries in which they operate and incurred non-capitalized expenses. Industries in the survey will be comprised of 3-digit and selected 4-digit 1997 North American Industry Classification System codes.

The Bureau of Economic Analysis (BEA), Federal Reserve Board, Bureau of Labor Statistics and industry analysts need these data to evaluate productivity and economic growth prospects. In addition, the proposed survey will provide improved source data significant to the BEA's investment component of Gross Domestic Product, capital stock estimates, and capital flow tables.

II. Method of Collection

The Census Bureau will use mail out/mail back survey forms to collect data. Employer companies will be mailed one of three forms based on their diversity of operations and number of industries with payroll. Companies that operate in only one industry will receive an ICT-1 (S) form. Companies that operate in more than one but less than nine industries will receive an ICT-1 (M) form. And, companies that operate in nine or more industries will receive an ICT-1 (L). Respondent companies are permitted to respond via facsimile machine to our toll-free number. Companies will be asked to respond to the survey within 30 days of the initial mailing. Letters and/or telephone calls encouraging participation will be directed to companies that have not responded by the designated time.

III. Data

OMB Number: None.

Form Number: ICT-1 (S), ICT-1 (M), ICT-1 (L).

Type of Review: New Collection.

Affected Public: Business or other for-profit organizations, non-profit institutions, small businesses and organizations.

Estimated Number of Respondents: Approximately 46,000 employer companies.

Estimated Time Per Response: The average for all respondents is 1.63 hours with the range from less than 1 hour to 20 hours.

Estimated Total Annual Burden Hours: 74,980 hours.

Estimated Total Annual Cost to Respondents: $1.6 million.

Respondents' Obligation: Mandatory.

Legal Authority: Title 13 United States Code, Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 18, 2003.
Madeleine Clayton,
Management Analyst, Office of the Chief Information Officer.

[FR Doc. 03-26662 Filed 10-21-03; 8:45 am]

BILLING CODE 3510-07-P